DEPARTMENT OF COMMERCE

Bureau of Industry and Security

15 CFR Parts 740, 742, 758, and 774

[Docket No. 250108-0012]

RIN 0694-AJ95

Controls on Certain Laboratory Equipment and Related Technology To Address Dual Use Concerns About Biotechnology

AGENCY: Bureau of Industry and Security, Department of Commerce.

ACTION: Interim final rule.

SUMMARY: With this interim final rule (IFR), the Bureau of Industry and Security (BIS) is revising the Export Administration Regulations (EAR) to address the accelerating development and deployment of advanced biotechnology tools contrary to U.S. national security and foreign policy interests. This rule institutes new controls on certain biotechnology equipment and related technology. It further solicits public comments on the changes it implements.

DATES: This rule is effective January 16, 2025.

Comments must be received by BIS no later than March 17, 2025.

ADDRESSES: Comments on this rule may be submitted to the Federal rulemaking portal (www.regulations.gov). The regulations.gov ID for this rule is: BIS-2024-0050. Please refer to RIN 0694-AJ95 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available through https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For all questions pertaining to this rule, contact Theodore Curtin, Director of Chemical Biological Controls Division; phone: 202-482-1979; Theodore.Curtin@bis.doc.gov.

SUPPLEMENTARY INFORMATION:

Background

As noted in Executive Order (E.O.) 14081, “Advancing Biotechnology and Biomanufacturing Innovation for a Sustainable, Safe, and Secure American Bioeconomy” (87 FR 56849, September 15, 2022), advances in biotechnology possess great promise but are inherently dual-use in nature. Accordingly, the E.O. calls for safeguarding the United States from foreign adversaries that could acquire technologies and data that threaten our national security, while also promoting the ethical and responsible development and deployment of biotechnology globally. The E.O. provides a framework to ensure that biotechnologies do not contribute to global instability through irresponsible or malicious use.

The United States recognizes that ensuring the responsible use of biotechnology, particularly when combined with advances in artificial intelligence (AI) and data science, is essential to safeguard public health, agriculture and food production, and the environment. At the same time, the United States needs to address the benefits and risks of dual-use biotechnology given the potential that its use, particularly when coupled with AI and biological design tools, could strengthen the military capabilities of countries of concern and lower barriers to the design, deployment, and use of novel weapons. As described in the 2024 Annual Threat Assessment from the Office of the Director of National Intelligence, “new technologies—particularly in the fields of AI and biotechnology—are being developed and are proliferating at a [challenging] rate” and that the consolidation of “these emerging technologies is likely to create breakthroughs, which could lead to the rapid development of asymmetric threats . . . to U.S. interests.” Certain countries are actively pursuing a strategy to exploit the combination of biotechnology with other enabling technologies for asymmetric military advantage through applications such as human performance enhancement and advanced biologically-derived materials for military-industrial use. Given the dual-use nature and relevance of specific biotechnology equipment to contribute to the research and development of certain militarily relevant technologies, calibrated export controls on these categories of equipment are necessary to limit immediate risks and protect against long-term national security threats in a field that could greatly impact security and defense capabilities.

This IFR identifies two categories of equipment for additional U.S. export controls necessary to help protect U.S. national security. These categories of equipment are: (1) high parameter flow cytometers, which are used to simultaneously measure several characteristics of individual cells or particles, and (2) liquid chromatography mass spectrometers specially designed for top-down proteomics, which are analytical instruments used to elucidate and quantify unknown biomolecular structures, characterize molecules, and aid in the study of molecular interactions. The field of proteomics generally aims to identify and characterize proteins and study their structures, functions, interactions, and post-translational modifications. All the items described can be used towards innovative solutions in health, climate change, energy, food, and agriculture. However, they can also be used for research and development of concern to U.S. national security, including through the generation of large amounts of high-quality biological datasets that can be misused by countries of concern. This misuse includes training artificial intelligence systems for the development of certain militarily relevant applications, including as well as but not limited to human performance enhancement, brain-machine interfaces, biologically-inspired synthetic materials, and possibly biological weapons.

To address the national security concerns described above, this IFR establishes new controls narrowly focused on a subset of biotechnology equipment. This IFR creates specific Export Control Classification Numbers (ECCNs) for high-parameter flow cytometers and certain mass spectrometry equipment. These items generate high-quality, high-content biological data including that which is suitable for use to facilitate the development of AI and biological design tools. The new ECCNs facilitate identification of the items being controlled and will provide more transparency in trade flows for this equipment. Moreover, these controls will only apply to destinations that present a concern of potential misuse or diversion to activities of national security concern.

Regulatory Changes

New Export Control Classification Numbers and Corresponding Changes

Given the above-described national security concerns, BIS is moving high-parameter flow cytometers and certain mass spectrometry equipment from their current control under ECCN 3A999 into new ECCN 3A069. ECCN 3A069 contains two paragraphs as follows: paragraph .a identifies flow cytometers and cell sorters that are “specially designed” for spectral analysis or contain 26 or greater detectors or channels; and paragraph .b identifies liquid chromatography mass spectrometry instruments (LC/MS and LC-MS/MS) “specially designed” for top-down proteomic analysis. Flow cytometers and mass spectrometers that are devices, as defined in section 201(h) of the Federal Food, Drug, and Cosmetic Act (FD&C Act), 21 U.S.C. 321(h), that have been authorized for marketing by the Food and Drug Administration under section 510(k), section 513, or section 515 of the FD&C Act, 21 U.S.C. 360(k), 21 U.S.C. 360c, 21 U.S.C. 360e, or are exempt from the requirement of premarket notification under section 510(k) of the FD&C Act, 21 U.S.C. 360(k), and that are included in a list required by section 510(j) of the FD&C Act, 21 U.S.C. 360(j). are excluded from the scope of ECCN 3A069; the exclusion appears as a license requirement note to ECCN 3A069. This rule also makes two conforming changes. First, ECCN 3A999 is updated to reference ECCN 3A069 as a related control. Second, the heading of ECCN 3E001 is updated to reference ECCN 3A069 in the list of 3A items excepted.

Relatedly, BIS is creating ECCN 3E069 to describe “technology” for the “development” or “production” of ECCN 3A069 items. The list of items controlled is contained in the ECCN heading. ECCNs 3A069 and 3E069 have the same reasons for control and licensing policies, described below.

Reasons for Control, Authorizations, and EEI Filing Changes

ECCNs 3A069 and 3E069 are controlled for National Security, Regional Stability, and Anti-Terrorism reasons. No licenses are required for Country Group A:1 for these items. As described below, certain license exceptions are also available for these items.

National Security reasons for control are detailed under § 742.4. Under paragraph (a)(2), 3A069 and 3E069 items will require a license to all destinations, except those in Country Group A:1. This IFR adds paragraph (b)(11) to § 742.4, which identifies the license review policy for license applications as follows: (a) presumption of denial for destinations in both Country Group D:1 and D:5, Macau, or destinations in Country Group E; and (b) for all other destinations for which a license is required, case-by-case review based on a determination of whether the items would make a significant contribution to the military potential of any other destination or combination of destinations that would prove detrimental to the national security of the United States.

Regional Stability requirements for control are detailed under § 742.6. This IFR adds paragraph (a)(13) to § 742.6, which establishes a license requirement for the export, reexport, or transfer (in-country) of any item controlled under ECCNs 3A069 and 3E069 when destined to a Country Group D:5 destination or Macau. Consistent with the license review policy for NS reasons of control, for destinations that are in both Country Group D:1 and D:5, Macau, or destinations in Country Group E, license applications for these items will be reviewed under a presumption of denial. For all other destinations, applications will be subject to case-by-case review. This case-by-case review policy includes license applications for countries in Country Group D:5 that are not also in Country Group D:1. This IFR adds the license review policy for RS for these items to paragraph (b)(14).

Commodities controlled under ECCN 3A069 are generally eligible for License Exception Shipments to Country Group B countries (GBS), set forth in § 740.4. However, License Exception GBS will not be available for destinations subject to the RS control described in ECCN 3A999. Technology controlled under ECCN 3E069 is eligible for License Exception Technology and software under restriction (TSR), detailed under § 740.6, except to destinations in Country Group D:5, destinations subject to the RS control described in ECCN 3A999, or Macau (in addition to existing destination-based restrictions on the use of TSR). Under TSR, written assurances are required from the importer that the technologies authorized under the License Exception will not be reexported or released under certain conditions. Since TSR eligibility will not apply to destinations in Country Group D:5, destinations subject to the RS control in ECCN 3A999, and Macau, this IFR adds paragraph (a)(1)(iv) to § 740.6, which provides that a written assurance is required for TSR authorization of ECCN 3E069 technology, assuring that the importer will not reexport or release the technology to those destinations.

Finally, to better track the export of the items in ECCN 3A069, this IFR revises the filing requirements for Electronic Export Information (EEI) filings in the Automated Export System (AES). Under new paragraph (b)(11) of § 758.1, EEI filings are required for exports of all items in ECCN 3A069 when destined for a Country Group D destination.

Savings Clause

For the changes being made in this final rule, shipments of items removed from eligibility for a License Exception or export, reexport, or transfer (in-country) without a license (NLR) as a result of this regulatory action that were en route aboard a carrier to a port of export, reexport, or transfer (in-country), on January 16, 2025, pursuant to actual orders for export, reexport, or transfer (in-country) to or within a foreign destination, may proceed to that destination under the previous eligibility for a License Exception or export, reexport, or transfer (in-country) without a license (NLR) before February 18, 2025. Any such items not actually exported, reexported or transferred (in-country) before midnight, on February 18, 2025, require a license in accordance with this final rule.

Export Control Reform Act of 2018

On August 13, 2018, the President signed into law the John S. McCain National Defense

Authorization Act for Fiscal Year 2019, which included the Export Control Reform Act of 2018 (ECRA) (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be a significant regulatory action for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.7 minutes for a manual or electronic submission for a total burden estimate of 38,826 hours. Total burden hours associated with the PRA and OMB control number 0694-0088 are expected to increase as a result of this rule. This rule is expected to increase the licensing burden by approximately 1170 licenses per year; this will result in an overall increase in burden hours by around 580 hours per year for licensing, for a new total burden estimate of 39,406 hours.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date. While Section 1762 of ECRA on its own provides sufficient authority for such an exemption, this action is also independently exempt from the same APA requirements because it involves a military or foreign affairs function of the United States (5 U.S.C. 553(a)(1)). Nonetheless, BIS is accepting comments on this IFR.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects

15 CFR Parts 740 and 758

Administrative practice and procedure, Exports, Reporting and recordkeeping requirements.

15 CFR Part 742

Exports, Terrorism.

15 CFR Part 742

Exports, Terrorism.

15 CFR Part 774

Exports, Reporting and recordkeeping requirements, Terrorism.

Accordingly, parts 740, 742, 758, and 774 of the Export Administration Regulations (15 CFR parts 730-774) are amended as follows:

PART 740—LICENSE EXCEPTIONS

1. The authority citation for 15 CFR part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

2. Section 740.6 is amended by adding paragraph (a)(1)(iv) to read as follows:

§ 740.6 Technology and software under restriction (TSR).

(a) * * *

(1) * * *

(iv) Reexport to a destination in Country Group D:5, a destination subject to the Regional Stability control under ECCN 3A999, or Macau or release the technology to a national of such destinations, if the technology is controlled under ECCN 3E069.

* * * * *

PART 742—CONTROL POLICY—CCL BASED CONTROLS

3. The authority citation for 15 CFR part 742 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 7, 2024, 89 FR 88867 (November 8, 2024).

4. Section 742.4 is amended by revising (b)(11) to read as follows:

PART 742—CONTROL POLICY—CCL BASED CONTROLS

§ 742.4 National security.

* * * * *

(b) * * *

(11) License review policy for items specified in ECCNs 3A069 and 3E069. License applications to export, reexport, or transfer (in-country) items specified in ECCNs 3A069 and 3E069 will be reviewed under a presumption of denial when destined for a country that is in both Country Groups D:1 and D:5, Macau, or a country in Country Group E. All other license applications for these items will be reviewed on a case-by-case basis to determine if the items would make a significant contribution to the military potential of any other destination or combination of destinations that would prove detrimental to the national security of the United States.

* * * * *

5. Section 742.6 is amended by adding paragraphs (a)(13) and (b)(14) to read as follows:

§ 742.6 Regional stability.

(a) * * *

(13) RS requirement that applies for items specified in ECCNs 3A069 and 3E069. A license is required for the export, reexport, or transfer (in-country) of any item specified in ECCNs 3A069 and 3E069 when destined to a Country Group D:5 destination or Macau. See supplement no. 1 to part 740 of the EAR for Country Groups.

(b) * * *

(14) License review policy for items specified in paragraph (a)(13). License applications to export, reexport, or transfer (in-country) items described in paragraph (a)(13) of this section will be reviewed under a presumption of denial when destined for a country that is in both Country Groups D:1 andD:5, Macau, or a country in Country Group E. All other license applications for these items will be reviewed on a case-by-case basis.

PART 758—EXPORT CLEARANCE REQUIREMENTS AND AUTHORITIES

6. The authority citation for part 758 continues to read as follows:

Authority: 50 U.S.C. 4801-4852; 50 U.S.C. 4601 et seq.; 50 U.S.C. 1701 et seq.; E.O. 13222, 66 FR 44025, 3 CFR, 2001 Comp., p. 783.

7. Section 758.1 is amended by adding paragraph (b)(11) to read as follows:

§ 758.1 The Electronic Export Information (EEI) filing to the Automated Export System (AES).

* * * * *

(b) * * *

(11) For all exports of items in ECCN 3A069 when destined to a destination in Country Group D.

PART 774—THE COMMERCE CONTROL LIST

8. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

Supplement No. 1 to Part 774—The Commerce Control List

9. Supplement no.1 to part 774 is revised by adding ECCN 3A069, modifying ECCNs 3A999 and 3E001, and adding ECCN 3E069.

The addition and revision read as follows:

* * * * *

Category 3—Electronics

A. “End Items,” “Equipment,” “Accessories,” “Attachments,” “Parts,” “Components,” and “Systems”

* * * * *

ECCN 3A069 Specific Laboratory Equipment as Follows (See List of Items Controlled)

License Requirements

Reason for Control: NS, RS, AT

Control(s) | Country chart (see Supp. No. 1 to part 738)
NS applies to entire entry | NS Column 2.
RS applies to entire entry | To or within Macau or a destination specified in Country Group D:5 of supplement no. 1 to part 740 of the EAR. See § 742.6(a)(12) of the EAR.
AT applies to entire entry | AT Column 1.

List Based License Exceptions (See Part 740 for a Description of All License Exceptions)

LVS: N/A

GBS: Yes, except N/A for destinations subject to the RS control in 3A999.

List of Items Controlled

Related Controls: See also 3A999 for specific processing equipment, n.e.s.. See also 3E069 for technology for the “development” and “production” of items detailed in 3A069.

License Requirement Note: Excluded from the scope of this entry are flow cytometers and mass spectrometers that are devices, as defined in section 201(h) of the Federal Food, Drug, and Cosmetic Act (FD&C Act), 21 U.S.C. 321(h), that have been authorized for marketing by the Food and Drug Administration under section 510(k), section 513, or section 515 of the FD&C Act, 21 U.S.C. 360(k), 21 U.S.C. 360c, 21 U.S.C. 360e, or are exempt from the requirement of premarket notification under section 510(k) of the FD&C Act, 21 U.S.C. 360(k), and that are included in a list required by section 510(j) of the FD&C Act, 21 U.S.C. 360(j).

Related Definitions: N/A

Items:

a. Flow cytometers and cell sorters that are “specially designed” for spectral analysis or contain 26 or greater detectors or channels.

b. Liquid chromatography mass spectrometry instruments (LC/MS and LC-MS/MS) “specially designed” for top-down proteomic analysis.

* * * * *

3A999 Specific Processing Equipment, n.e.s., as Follows (See List of Items Controlled).

License Requirements

Reason for Control: RS, AT

Control(s) | Country chart (see Supp. No. 1 to part 738)
RS applies to entire entry | A license is required for items controlled by this entry for export or reexport to Iraq or Pakistan or transfer within Iraq or Pakistan for regional stability reasons. The Commerce Country Chart is not designed to determine RS license requirements for this entry. See §§ 742.6 and 746.3 of the EAR for additional information.
AT applies to entire entry | A license is required for items controlled by this entry to North Korea for anti-terrorism reasons. The Commerce Country Chart is not designed to determine AT licensing requirements for this entry. See § 742.19 of the EAR for additional information.

List Based License Exceptions (See Part 740 for a Description of All License Exceptions)

LVS: N/A

GBS: N/A

List of Items Controlled

Related Controls: (1) See also 3A225 (for frequency changers capable of operating in the frequency range of 600 Hz and above) and 3A233. (2) Certain auxiliary systems, equipment, “parts” and “components” for isotope separation plants made of or protected by UF6 resistant materials are subject to the export licensing authority of the Nuclear Regulatory Commission (see 10 CFR part 110). (3) See also 3A069 for flow cytometers and cell sorters that are “specially designed” for spectral analysis or contain 26 or greater detectors or channels as well as liquid chromatography mass spectrometry instruments (LC/MS and LC-MS/MS) “specially designed” for top-down proteomic analysis.

Related Definitions: N/A

Items:

a. Frequency changers capable of operating in the frequency range from 300 up to 600 Hz, n.e.s;

b. Mass spectrometers n.e.s;

c. All flash x-ray machines, and “parts” or “components” of pulsed power systems designed thereof, including Marx generators, high power pulse shaping networks, high voltage capacitors, and triggers;

d. Pulse amplifiers, n.e.s.;

e. Electronic equipment for time delay generation or time interval measurement, as follows:

e.1. Digital time delay generators with a resolution of 50 nanoseconds or less over time intervals of 1 microsecond or greater; or

e.2. Multi-channel (three or more) or modular time interval meter and chronometry equipment with resolution of 50 nanoseconds or less over time intervals of 1 microsecond or greater;

f. Chromatography and spectrometry analytical instruments, n.e.s.

* * * * *

E. “Technology”

* * * * *

3E001 “Technology” according to the General Technology Note for the “development” or “production” of commodities controlled by 3A (except 3A069, 3A901, 3A904, 3A980, 3A981, 3A991, 3A992, or 3A999), 3B (except 3B001.a.4, c, d, f.1, f.5, k to n, p.2, p.4, r, 3B002.c, 3B903, 3B904, 3B991, 3B992, 3B993, or 3B994) or 3C (except 3C907, 3C908, 3C909, or 3C992).

License Requirements

Reason for Control: NS, MT, NP, RS, AT

Control(s) | Country chart (see Supp. No. 1 to part 738)
NS applies to “technology” for commodities controlled by 3A001, 3A002, 3A003, 3B001 (except as noted in the heading), 3B002 (except 3B002.c), or 3C001 to 3C006 | NS Column 1.
MT applies to “technology” for commodities controlled by 3A001 or 3A101 for MT Reasons | MT Column 1.
NP applies to “technology” for commodities controlled by 3A001, 3A201, or 3A225 to 3A234 for NP reasons | NP Column 1.
RS applies to “technology” for commodities controlled in 3A090, when exported from Macau or a destination specified in Country Group D:5 | Worldwide (see § 742.6(a)(6)(ii)).
RS applies to “technology” for commodities controlled by 3A001.z, 3A090 (except for 3A090.c) | To or within destinations specified in Country Groups D:1, D:4, and D:5 of supplement no. 1 to part 740 of the EAR, excluding any destination also specified in Country Groups A:5 or A:6. See § 742.6(a)(6)(iii) of the EAR.
RS applies to “technology” for commodities controlled by 3A090.c | To or within Macau or a destination specified in Country Group D:5 of supplement no. 1 to part 740 of the EAR. See § 742.6(a)(6)(i)(B) of the EAR.
RS applies to “technology” for commodities controlled by 3A001.a.15 or b.13, 3A004, 3B003, 3C007, 3C008, or 3C009 | RS Column 2.
AT applies to entire entry | AT Column 1.

License Requirements Note: See § 744.17 of the EAR for additional license requirements for microprocessors having a processing speed of 5 GFLOPS or more and an arithmetic logic unit with an access width of 32 bit or more, including those incorporating “information security” functionality, and associated “software” and “technology” for the “production” or “development” of such microprocessors.

Reporting Requirements

See § 743.1 of the EAR for reporting requirements for exports under License Exceptions and Validated End-User authorizations.

List Based License Exceptions (See Part 740 for a Description of All License Exceptions)

TSR: Yes, except N/A for MT, and “technology” for the “development” or “production” of: (a) vacuum electronic device amplifiers described in 3A001.b.8, having operating frequencies exceeding 19 GHz; (b) solar cells, coverglass-interconnect-cells or covered-interconnect-cells (CIC) “assemblies,” solar arrays and/or solar panels described in 3A001.e.4; (c) “Monolithic Microwave Integrated Circuit” (“MMIC”) amplifiers in 3A001.b.2; (d) discrete microwave transistors in 3A001.b.3; and (e) commodities described in 3A090.

Note: See § 740.2(a)(9)(ii) of the EAR for license exception restrictions for ECCN 3E001 “technology” for commodities controlled by 3A001.z, 3A090.

IEC: Yes, for “technology” for equipment controlled by 3B001.q, see § 740.2(a)(22) and § 740.24 of the EAR.

Special Conditions for Strategic Trade Authorization (STA)

STA: License Exception STA may not be used to ship or transmit “technology” according to the General Technology Note for the “development” or “production” of equipment specified by ECCNs 3A002.g.1 or 3B001.a.2 to any of the destinations listed in Country Group A:6 (see supplement no.1 to part 740 of the EAR). License Exception STA may not be used to ship or transmit “technology” according to the General Technology Note for the “development” or “production” of components specified by ECCN 3A001.b.2, b.3, commodities specified in 3A090, to any of the destinations listed in Country Group A:5 or A:6 (see supplement no. 1 to part 740 of the EAR).

List of Items Controlled

Related Controls: (1) “Technology” according to the General Technology Note for the “development” or “production” of certain “space-qualified” atomic frequency standards described in Category XV(e)(9), MMICs described in Category XV(e)(14), and oscillators described in Category XV(e)(15) of the USML are “subject to the ITAR” (see 22 CFR parts 120 through 130). See also ECCNs 3E101, 3E201 and 9E515. (2) “Technology” for “development” or “production” of “Microwave Monolithic Integrated Circuits” (“MMIC”) amplifiers in 3A001.b.2 is controlled in this ECCN 3E001; 5E001.d refers only to that additional “technology” “required” for telecommunications.

Related Definition: N/A.

Items: The list of items controlled is contained in the ECCN heading.

Note 1: 3E001 does not control “technology” for equipment or “components” controlled by 3A003.

Note 2: 3E001 does not control “technology” for integrated circuits controlled by 3A001.a.3 to a.14 or z, having all of the following:

(a) Using “technology” at or above 0.130 μm; and

(b) Incorporating multi-layer structures with three or fewer metal layers.

* * * * *

3E069 “Technology” according to the General Technology Note for the “development” or “production” of items controlled by 3A069.

License Requirements

Reason for Control: NS, RS, AT

Control(s) | Country chart (see Supp. No. 1 to part 738)
NS applies to entire entry | NS Column 2.
RS applies to entire entry | To or within Macau or a destination specified in Country Group D:5 of supplement no. 1 to part 740 of the EAR. See § 742.6(a)(13) of the EAR.
AT applies to entire entry | AT Column 1.

List Based License Exceptions (See Part 740 for a Description of All License Exceptions)

TSR: Yes, except N/A for Macau, destinations in Country Group D:5, or destinations subject to the RS control in 3A999.

List of Items Controlled

Related Controls: N/A

Related Definitions: N/A

Items: The list of items controlled is contained in the ECCN heading.

* * * * *

Thea D. Rozman Kendler,
Assistant Secretary for Export Administration.

[FR Doc. 2025-00723 Filed 1-15-25; 8:45 am]

BILLING CODE 3510-33-P